DEPARTMENT OF COMMERCE

International Trade Administration

University of Puerto Rico, et al.; Notice of Consolidated Decision on Applications for Duty-Free Entry of Electron Microscopes

This is a decision consolidated pursuant to section 6(c) of the Educational, Scientific, and Cultural Materials Importation Act of 1966 (Pub. L. 89-651, as amended by Pub. L. 106-36; 80 Stat. 897; 15 CFR part 301). Related records can be viewed between 8:30 a.m. and 5 p.m. in Room 2104, U.S. Department of Commerce, 14th and Constitution Avenue, NW., Washington, DC.

Docket Number: 08-048. Applicant: University of Puerto Rico, San Juan, PR 00931-3334. Instrument: Electron Microscope, Model JEM 2100-F. Manufacturer: JEOL Ltd., Japan. Intended Use: See notice at 73 FR 63434, October 24, 2008.

Docket Number: 08-049. Applicant: University of Puerto Rico, San Juan, PR 00931-3334. Instrument: Electron Microscope, Model JEM 2200-FS. Manufacturer: JEOL, Ltd., Japan. Intended Use: See notice at 73 FR 63434, October 24, 2008.

Docket Number: 08-053. Applicant: Purdue University, West Lafayette, IN 47907. Instrument: Electron Microscope, Model Tecnai G2 F20 TEM. Manufacturer: FEI Company, Czech Republic. Intended Use: See notice at 73 FR 63434, October 24, 2008.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: November 18, 2008.
Christopher Cassel,
Acting Director, Subsidies Enforcement Office, Import Administration.

[FR Doc. E8-27887 Filed 11-21-08; 8:45 am]

BILLING CODE 3510-DS-P